DEPARTMENT OF HEALTH AND HUMAN SERVICES

Centers for Disease Control and Prevention

[RFA IP05-094]

Influenza Vaccination of Children and Accompanying Adults: Mass Vaccination vs Vaccination in Routine Care; Notice of Availability of Funds—Amendment

A notice announcing the availability of fiscal year (FY) 2006 funds for a cooperative agreement for Influenza Vaccination of Children and Accompanying Adults: Mass Vaccination vs Vaccination in Routine Care was published in the Federal Register, Thursday, May 12, 2005, Volume 70, Number 91, pages 25067-25071.

The notice is amended as follows: Page 25067, third column, Letter of Intent Deadline, delete June 13, 2005, and replace with August 15, 2005. Page 25067, third column, Application Deadline, delete June 27, 2005, and replace with August 31, 2005. Page 25068, third column, Fiscal Year Funds, delete 2005, and replace with 2006. Page 25068, third column, Anticipated Award Date, delete August 31, 2005, and replace with November 30, 2005. Page 25069, third column, LOI Deadline Date, delete June 13, 2005, and replace with August 15, 2005. Page 25069, third column, Application Deadline Date, delete June 27, 2005, and replace with August 31, 2005. Page 25071, second column, Anticipated Award Date, delete August 31, 2005, and replace with November 30, 2005.

Dated: June 2, 2005.
William P. Nichols,
Director, Procurement and Grants Office, Centers for Disease Control and Prevention.

[FR Doc. 05-11525 Filed 6-9-05; 8:45 am]

BILLING CODE 4163-18-P